DEPARTMENT OF COMMERCE

International Trade Administration

[A-570-956]

Seamless Carbon and Alloy Steel Standard, Line, and Pressure Pipe From the People's Republic of China: Final Results of the Expedited Sunset Review of the Antidumping Duty Order

AGENCY: Enforcement and Compliance, International Trade Administration, Department of Commerce.

SUMMARY: The Department of Commerce (“the Department”) finds that revocation of the antidumping duty order on seamless carbon and alloy steel standard, line, and pressure pipe from the People's Republic of China (“PRC”) ¹ would likely lead to continuation or recurrence of dumping, at the levels indicated in the “Final Results of Sunset Review”' section of this notice.

¹ See Certain Seamless Carbon and Alloy Steel Standard, Line, and Pressure Pipe from the People's Republic of China: Amended Final Determination of Sales at Less Than Fair Value and Antidumping Duty Order, 75 FR 69052 (November 10, 2010) (“Order”).

DATES: Effective Date: February 11, 2016.

FOR FURTHER INFORMATION CONTACT: Aleksandras Nakutis, AD/CVD Operations, Office IV, Enforcement and Compliance, International Trade Administration, U.S. Department of Commerce, 14th Street and Constitution Avenue NW., Washington, DC 20230; telephone: (202) 4823147.

SUPPLEMENTARY INFORMATION:

Background

On October 1, 2015, the Department initiated a sunset review of the antidumping duty order on seamless carbon and alloy steel standard, line, and pressure pipe from the PRC.² On October 14, 2015, the Department received a timely notice of intent to participate in the sunset review from TMK IPSCO, United States Steel Corporation (“U.S. Steel”), and Vallourec Star, L.P. (“Vallourec”), domestic interested parties. On November 2, 2015, TMK IPSCO, U.S. Steel, and Vallourec filed a timely substantive response with the Department. The Department did not receive a response from any respondent interested party. As a result, pursuant to section 751(c)(3)(B) of the Act and 19 CFR 351.218(e)(1)(ii)(C)(2), the Department conducted an expedited sunset review of the Order.

² See Initiation of Five-year (“Sunset”) Review, 80 FR 59133 (October 1, 2015).

Scope of the Order

The merchandise covered by this order is certain seamless carbon and alloy steel. The merchandise covered by the order is currently classified in the Harmonized Tariff Schedule of the United States (“HTSUS”) under item numbers: 7304.19.1020, 7304.19.1030, 7304.19.1045, 7304.19.1060, 7304.19.5020, 7304.19.5050, 7304.31.6050, 7304.39.0016, 7304.39.0020, 7304.39.0024, 7304.39.0028, 7304.39.0032, 7304.39.0036, 7304.39.0040, 7304.39.0044, 7304.39.0048, 7304.39.0052, 7304.39.0056, 7304.39.0062, 7304.39.0068, 7304.39.0072, 7304.51.5005, 7304.51.5060, 7304.59.6000, 7304.59.8010, 7304.59.8015, 7304.59.8020, 7304.59.8025, 7304.59.8030, 7304.59.8035, 7304.59.8040, 7304.59.8045, 7304.59.8050, 7304.59.8055, 7304.59.8060, 7304.59.8065, and 7304.59.8070. Although the HTSUS subheadings are provided for convenience and customs purposes, our written description of the merchandise subject to this scope is dispositive.

For a complete description of the order, see the Department Memorandum, “Issues and Decision Memorandum for the Expedited Sunset Review of the Antidumping Duty Order on Seamless Carbon and Alloy Steel Standard, Line, and Pressure Pipe from the People's Republic of China” (Decision Memorandum), dated concurrently with, and hereby adopted by, this notice. The Decision Memorandum is on file electronically via Enforcement and Compliance's Antidumping and Countervailing Duty Centralized Electronic Services System (“ACCESS”). ACCESS is available to registered users at http://access.trade.gov and is available to all parties in the Central Records Unit, Room B8024 of the main Department of Commerce building. In addition, a complete version of the Decision Memorandum is available directly on the Web at http://enforcement.trade.gov/frn/index.html. The signed Decision Memorandum and the electronic versions of the Decision Memorandum are identical in content.

Analysis of Comments Received

All issues raised in this sunset review are addressed in the Decision Memorandum. The issues discussed in the Decision Memorandum include the likelihood of continuation or recurrence of dumping, and the magnitude of the margins likely to prevail if the Order were to be revoked. Parties may find a complete discussion of all issues raised in the review and the corresponding recommendations in this public memorandum.

Final Results of Sunset Review

Pursuant to section 752(c)(3) of the Act, the Department determines that revocation of the Order would be likely to lead to continuation or recurrence of dumping, and the magnitude of the margins of dumping likely to prevail would be weighted-average margins up to 98.74 percent.

Notification Regarding Administrative Protective Orders

This notice also serves as the only reminder to parties subject to administrative protective order (“APO”') of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing these results and notice in accordance with sections 751(c), 752, and 777(i)(1) of the Act and 19 CFR 351.218.

Dated: February 4, 2016.
Paul Piquado,
Assistant Secretary for Enforcement and Compliance.

[FR Doc. 2016-02804 Filed 2-10-16; 8:45 am]

BILLING CODE 3510-DS-P